DEPARTMENT OF COMMERCE

International Trade Administration

North American Free Trade Agreement (NAFTA), Article 1904; Binational Panel Review: Notice of Request for Panel Review

AGENCY: United States Section, NAFTA Secretariat, International Trade Administration, Department of Commerce.

ACTION: Notice of NAFTA Interim Panel Decision and Order in the matter of Large Residential Washers from Mexico: Final Results of Antidumping Duty Administrative Review (Secretariat File Number: USA-MEX-2019-1904-04).

SUMMARY: On April 26, 2019, the Binational Panel issued its Interim Decision and Order in the matter of Large Residential Washers from Mexico. The Binational Panel affirmed in part and remanded in part the United States Department of Commerce's final determination in the antidumping 2016-2017 administrative review.

FOR FURTHER INFORMATION CONTACT: Paul E. Morris, United States Secretary, NAFTA Secretariat, 1401 Constitution Avenue NW, Washington, DC 20230, (202) 482-5438.

SUPPLEMENTARY INFORMATION: The Binational Panel ordered that the U.S. Department of Commerce reconsider its decision to reject and remove Electrolux's September 1, 2017, questionnaire responses from the record based on the applicable law, regulations, and facts of the record of this proceeding only, in accordance with the specific instructions as contained in Section IV.D of the Binational Panel's Interim Decision. The U.S. Department of Commerce is to inform the Binational Panel of Commerce's Redetermination on Remand within 90 days of the issuance of the Binational Panel's Interim Decision and Order. The deadline for submission of Commerce's Redetermination on Remand is July 26, 2021. Additionally, the Binational Panel ordered that the U.S Department of Commerce's holdings with respect to the other issues addressed are affirmed.

Chapter 19 of Article 1904 of NAFTA provides a dispute settlement mechanism involving trade remedy determinations issued by the Government of the United States, the Government of Canada, and the Government of Mexico. Following a Request for Panel Review, a Binational Panel is composed to review the trade remedy determination being challenged and issue a binding Panel Decision. There are established NAFTA Rules of Procedure for Article 1904 Binational Panel Reviews (Rules) and the NAFTA Panel Decision has been notified in accordance with Rule 70. For the complete Rules, please see https://can-mex-usa-sec.org/secretariat/agreement-accord-acuerdo/nafta-alena-tlcan/rules-regles-reglas/article-article-articulo_1904.aspx?lang=eng.

Dated: April 27, 2021.
Paul E. Morris,
U.S. Secretary, NAFTA Secretariat.

[FR Doc. 2021-09199 Filed 4-30-21; 8:45 am]

BILLING CODE 3510-GT-P